DEPARTMENT OF VETERANS AFFAIRS

Privacy Act Of 1974

AGENCY: Department of Veteran Affairs.

ACTION: Notice of Establishment of New System of Records.

SUMMARY: The Privacy Act of 1974 (5 U.S.C. 552(e)(4)) requires that all agencies publish in the Federal Register a notice of the existence and character of their systems of records. Notice is hereby given that the Department of Veterans Affairs (VA) is establishing a new system of records entitled “General Counsel Legal Automation Workload System (GCLAWS)-VA” (144VA026).

DATES: Comments on the establishment of this new system of records must be received no later than October 19, 2007. If no public comment is received, the new system will become effective October 19, 2007.

ADDRESSES: Written comments may be submitted through http://www.Regulations.gov; by mail or hand-delivery to the Director, Regulations Management (00REG), Department of Veterans Affairs, 810 Vermont Ave., NW., Room 1068, Washington, DC 20420; or by fax to (202) 273-9026. Copies of comments received will be available for public inspection in the Office of Regulation Policy and Management, Room 1063B, between the hours of 8 a.m. and 4:30 p.m. Monday through Friday (except holidays). Please call (202) 273-9515 for an appointment. In addition, during the comment period, comments may be viewed online through the Federal Docket Management System (FDMS).

FOR FURTHER INFORMATION CONTACT: Susan Sokoll, Privacy Officer, (202) 273-6558, Office of the General Counsel (026C), Department of Veterans Affairs, 810 Vermont Avenue, NW., Washington, DC 20420.

SUPPLEMENTARY INFORMATION:

I. Description of the Proposed System of Records

The Department of Veterans Affairs (VA) is proposing to establish a system of records to perform legal workload management and administration activities associated with the operation of the Office of General Counsel (OGC). This system will be used for case management, correspondence control, and statistical analysis. Cases are generated from matters brought to OGC for consideration, review, response, analysis, and/or comment. This system of records will contain case tracking for time and personnel, as well as pertinent documents and case facts, which may include data privileged under the attorney-client relationship. These case records will be used to provide statistical and other information in response to legitimate and reasonable requests.

II. Proposed Routine Use Disclosures of Data in the System

VA is proposing to establish the following routine use disclosures of the information that will be maintained in the system.

1. VA may disclose information to Congressional offices in order to respond to inquiries from those offices on behalf of constituents who seek information from the Agency.

VA must be able to respond to inquiries directed to it from Congressional staff offices on behalf of constituents. The fact that the constituents have asked for assistance from their Representative or Senator indicates that they wish the agency to respond to these inquiries. The routine use provides disclosure authority to disclose only the information necessary to respond to the Congressional inquiry on behalf of the record subject.

2. VA may disclose information to the National Archives and Records Administration (NARA) as required to comply with statutory requirements to disclose information to NARA for it to perform its statutory records management activities.

The VA must promulgate this routine use to satisfy the requirements of the Privacy Act for disclosure of information to these agencies without the prior written authorizations of the record subjects for the agencies to perform their duties.

3. VA may disclose information to entities or individuals with which or with whom VA has an agreement or contract to perform services for the agency for which the recipient entity or individual needs the information in order to perform the specified service.

This routine use is consistent with OMB guidance that agencies promulgate routine uses to address disclosure of Privacy Act-protected information to contractors in order to perform contracts for the agency. OMB Circular A-130, App. I, paragraph 5.a.(1)(b). VA also enters into agreements that are not contracts as defined under Federal procurement law. Consequently, the routine use is drafted to cover those entities also.

4. At VA's initiative, VA may disclose relevant information to law enforcement entities for those entities to investigate, prosecute or otherwise enforce laws, rules, regulations and orders.

This disclosure authority does not apply to disclosures in response to a qualifying request from a law enforcement entity. In those cases, the requesting entity must submit a qualifying law enforcement request for the records under 5 U.S.C. 552a(b)(7).

5. VA may provide Department of Justice (DoJ) with information needed to represent the United States in litigation. VA may also disclose the information for this purpose in proceedings in which DoJ is not representing the Agency.

In determining whether to disclose records under this routine use, VA will comply with the guidance promulgated by the Office of Management and Budget in a May 24, 1985, memorandum entitled “Privacy Act Guidance—Update”, currently posted at http://www.whitehouse.gov/omb/inforeg/guidance1985.pdf.

6. VA may disclose information when necessary to respond to, and if necessary, mitigate damages that might arise from a data breach involving data covered by this system of records. This routine use is necessary for VA to comply with the requirements of 38 U.S.C. 5724, enacted in section 902 of Public Law 109-461, 120 Stat. 3403 (December 22, 2006).

7. VA is promulgating a routine use to disclose information to labor unions when requested by the union under 5 U.S.C. 7114(b) in order to perform the activities listed in section 7114(b). The routine use does not provide any greater access to Privacy-Act-protected information in this system of records under section 7114(b) then the unions would have to the information if it was not protected by the Privacy Act. The routine use simply removes the Privacy Act as a bar to the disclosure of the information at the Agency's discretion.

8. VA is promulgating a trio of routine uses set forth under “Routine Uses of Records Maintained in the System, Including Categories of Users and the Purposes of Such Uses” (routine uses 8-10) that permit the VA to disclose the information to officials at the Merit Systems Protection Board, the Office of Special Counsel, the Equal Employment Opportunity Commission and the Federal Labor Relations Authority, where officials of those agencies determine, or VA determines, that disclosure is necessary to perform duties imposed by the enabling statutes and regulations of those agencies.

III. Compatibility of the Proposed Routine Uses

The Privacy Act permits VA to disclose information about individuals without their consent for a routine use when the information will be used for a purpose that is compatible with the purpose for which we collected the information. In all of the routine use disclosures described above, the recipient of the information will use the information in connection with a matter relating to one of VA's programs, will use the information to provide a benefit to VA, or will use the information where disclosure is required by law.

The report of intent to publish and an advance copy of the system notice have been sent to the appropriate Congressional committees and to the Director of the Office of Management and Budget (OMB) as required by 5 U.S.C. 552a(r) (Privacy Act) and guidelines issued by OMB (65 FR 77677), December 12, 2000.

Approved: September 4, 2007.
Gordon H. Mansfield,
Deputy Secretary of Veterans Affairs.

144VA026

SECURITY CLASSIFICATION:

None.

SYSTEM NAME:

General Counsel Legal Automation Workload System (GCLAWS)-VA

SYSTEM LOCATION:

The system of records is located in the Office of the General Counsel, Professional Staff Group VI (026), U.S. Department of Veterans Affairs (VA), 810 Vermont Avenue, NW., Washington, DC 20420 and in the 22 Regional Counsel offices (Regions and addresses are listed at 38 Code of Federal Regulations § 14.501(f)). Records for all Regions and Washington, DC are stored on a secured server computer at the VA Capitol Regional Data Center in Falling Waters, West Virginia.

CATEGORIES OF INDIVIDUALS COVERED BY THE SYSTEM:

Veterans and their beneficiaries, current and former employees, current contractors employed by Department of Veterans Affairs, medical service providers, veterans' claims representatives, and veterans' service organizations.

CATEGORIES OF RECORDS IN THE SYSTEM:

Records include the name of an individual or business entity, and may contain Social Security Number, partial address (city, state, and zip code), date of birth, veterans' claim number, financial records, and/or medical records.

AUTHORITY FOR MAINTENANCE OF THE SYSTEM:

38 U.S.C. Section 501; and Title 38, United States Code, Section 311.

PURPOSE(S):

Case management, correspondence control, and statistical analysis. This system of records contains case tracking for time and OGC personnel, and may contain embedded documents which may be data privileged under the attorney-client relationship. The system will be used to provide statistical and other information in response to legitimate and reasonable requests.

ROUTINE USES OF RECORDS MAINTAINED IN THE SYSTEMS, INCLUDING CATEGORIES OF USERS AND THE PURPOSES OF SUCH USES:

1. VA may disclose any information in this system of records to a Congressional office from the record of an individual in response to an inquiry from the Congressional office made at the request of that individual.

2. VA may disclose any record in this system of records to NARA (National Archives and Records Administration), the GSA (General Services Administration), or both, for which either agency says that it needs the records in order to perform records management activities under authority of 44 U.S.C.

3. VA may disclose information in this system of records to individuals, organizations, private or public agencies, or other entities or individuals with whom VA has a contract or agreement to perform such services as VA may deem practicable for the purposes of laws administered by VA, in order for the contractor, subcontractor, public or private agency, or other entity or individual with whom VA has an agreement or contract to perform the services of the contract or agreement. This routine use includes disclosures by the individual or entity performing the service for VA to any secondary entity or individual to perform an activity that is necessary for individuals, organizations, private or public agencies, or other entities or individuals with whom VA has a contract or agreement to provide the service to VA.

4. VA may disclose on its own initiative any information in this system which is relevant to a suspected or reasonably imminent violation of law, whether civil, criminal or regulatory in nature and whether arising by general or program statute or by regulation, rule or order issued pursuant thereto, to a Federal, State, local, tribal, or foreign agency charged with the responsibility of investigating or prosecuting such violation, or charged with enforcing or implementing the statute, regulation, rule or order.

5. VA may disclose information in this system of records to the Department of Justice (DoJ), either on VA's initiative or in response to DoJ's request for the information, after either VA or DoJ determines that such information is relevant to DoJ's representation of the United States or any of its components in legal proceedings before a court or adjudicative body, provided that, in each case, the agency also determines prior to disclosure that disclosure of the records to the Department of Justice is a use of the information contained in the records that is compatible with the purpose for which VA collected the records. VA, on its own initiative, may disclose records in this system of records in legal proceedings before a court or administrative body after determining that the disclosure of the records to the court or administrative body is a use of the information contained in the records that is compatible with the purpose for which VA collected the records.

6. VA may disclose any information in this system of records to appropriate agencies, entities, and persons under the following circumstances: When (1) it is suspected or confirmed that the security or confidentiality of information in the system of records has been compromised; (2) the Department has determined that as a result of the suspected or confirmed compromise there is a risk of embarrassment or harm to the reputations of the record subjects, harm to economic or property interests, identity theft or fraud, or harm to the security or integrity of this system or other systems or programs (whether maintained by the Department or another agency or entity) that rely upon the compromised information; and (3) the disclosure is made to such agencies, entities, and persons reasonably necessary to assist in connection with the Department's efforts to respond to the suspected or confirmed compromise and prevent, minimize, or remedy such harm.

7. The Department may disclose the information listed in 5 U.S.C. 7114(b)(4) to officials of labor organizations recognized under 5 U.S.C. Chapter 71 when relevant and necessary to their duties of exclusive representation concerning personnel policies, practices, and matters affecting working conditions.

8. The Department may disclose information to officials of the Merit Systems Protection Board, or the Office of the Special Counsel, when requested in connection with appeals, special studies of the civil service and other merit systems, review of rules and regulations, investigation of alleged or possible prohibited personnel practices, and such other functions, promulgated in 5 U.S.C. 1205 and 1206, or as may be authorized by law.

9. The Department may disclose information to the Equal Employment Opportunity Commission when requested in connection with investigations of alleged or possible discriminatory practices, examination of Federal affirmative employment programs, or other functions of the Commission as authorized by law or regulation.

10. The Department may disclose to the Federal Labor Relations Authority (including its General Counsel) information related to the establishment of jurisdiction, the investigation and resolution of allegations of unfair labor practices, or information in connection with the resolution of exceptions to arbitration awards when a question of material fact is raised; to disclose information in matters properly before the Federal Services Impasses Panel, and to investigate representation petitions and conduct or supervise representation elections.

DISCLOSURE TO CONSUMER REPORTING AGENCIES:

None.

POLICIES AND PRACTICES FOR STORING, RETRIEVING, ACCESSING, RETAINING, AND DISPOSING OF RECORDS IN THE SYSTEM:

STORAGE:

The system of records is stored on a secured server computer protected in accordance with current, applicable physical, technical and administrative requirements.

RETRIEVABILITY:

Individually-identified information is retrieved by the name of the record subject.

SAFEGUARDS:

This list of safeguards furnished in this System of Record is not an exclusive list of measures that has been, or will be, taken to protect individually-identifiable information.

OGC will maintain the data in compliance with applicable VA security policy directives that specify the standards that will be applied to protect sensitive personal information. Further, only authorized individuals may have access to the data and only when needed to perform their duties. They are required to take annual VA mandatory data privacy and security training.

Access to data storage areas is restricted to authorized VA employee or contract staff who has been cleared to work by the VA Office of Security and Law Enforcement. File areas are locked after normal duty hours. VA facilities are protected from outside access by the Federal Protective Service and/or other security personnel.

Security complies with applicable Federal Information Processing Standards (FIPS) issued by the National Institute of Standards and Technology (NIST).

Contractors and their subcontractors who access the data are required to maintain the same level of security as VA staff.

Access to electronic files is controlled by using an individually unique password entered in combination with an individually unique user identification code.

RETENTION AND DISPOSAL:

Records will be maintained and disposed of in accordance with records disposition authority approved by the Archivist of the United States.

At the current time, OGC has records disposition authority for certain categories of these records under Records Control Schedule N1-15-06-2 which was approved by the Archivist of the United States on March 7, 2007. The System Manager will initiate action to seek and obtain additional disposition authority for the disposition of the non-covered records in accordance with VA Handbook 6300.1, Records Management Procedures. The non-covered records will not be destroyed until VA obtains a NARA-approved records disposition authority. Once VA has obtained NARA-approved records disposition authority, VA OGC will amend this notice to reflect that authority, and any destruction of electronic records will occur in accordance with the disposition authority.

SYSTEM MANAGER(S) AND ADDRESS(ES):

Assistant General Counsel, Professional Staff Group VI (026), Office of General Counsel, United States Department of Veterans Affairs, 810 Vermont Avenue, NW., Washington, DC 20420.

NOTIFICATION PROCEDURE:

An individual who wishes to determine whether a record is being maintained in this system under his or her name or other personal identifier, or wants to determine the contents of such record, should submit a written request to the Assistant General Counsel, Professional Staff Group VI (026), Office of General Counsel, U.S. Department of Veterans Affairs, 810 Vermont Avenue, NW., Washington, DC 20420. Such requests must contain a reasonable description of the records requested. All inquiries must reasonably identify the information involved and should include the individual's full name, social security number, telephone number and return address.

RECORD ACCESS PROCEDURES:

Individuals seeking information regarding access to and contesting of VA information maintained by the Office of General Counsel may send a request by mail to the Assistant General Counsel, Professional Staff Group VI (026), Office of the General Counsel, Department of Veterans Affairs, 810 Vermont Avenue, NW., Washington, DC 20420.

CONTESTING RECORDS PROCEDURES:

(See Notification Procedure above.)

RECORD SOURCE CATEGORIES:

Individuals, businesses, and organizations that are covered by the system notice.

EXEMPTIONS CLAIMED FOR THE SYSTEM:

None.

[FR Doc. E7-18464 Filed 9-18-07; 8:45 am]

BILLING CODE 8320-01-P